DEPARTMENT OF TRANSPORTATION

Federal Aviation Administration

14 CFR Part 71

[Docket No. FAA-2021-0413; Airspace Docket No. 21-ASW-9]

RIN 2120-AA66

Proposed Amendment of Class D and Class E Airspace and Establishment of Class E Airspace; Waco, TX

AGENCY: Federal Aviation Administration (FAA), DOT.

ACTION: Notice of proposed rulemaking (NPRM).

SUMMARY: This action proposes to amend the Class D and Class E airspace and establish Class E airspace at airports in Waco, TX. The FAA is proposing this action as the result of biennial airspace reviews. The name and geographic coordinates of various airports and navigational aids would also be updated to coincide with the FAA's aeronautical database.

DATES: Comments must be received on or before July 12, 2021.

ADDRESSES: Send comments on this proposal to the U.S. Department of Transportation, Docket Operations, West Building Ground Floor, Room W12-140, 1200 New Jersey Avenue SE, Washington, DC 20590; telephone (202) 366-9826, or (800) 647-5527. You must identify FAA Docket No. FAA-2021-0413/Airspace Docket No. 21-ASW-9, at the beginning of your comments. You may also submit comments through the internet at https://www.regulations.gov. You may review the public docket containing the proposal, any comments received, and any final disposition in person in the Dockets Office between 9:00 a.m. and 5:00 p.m., Monday through Friday, except federal holidays.

FAA Order 7400.11E, Airspace Designations and Reporting Points, and subsequent amendments can be viewed online at https://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11E at NARA, email fedreg.legal@nara.gov or go to https://www.archives.gov/federal-register/cfr/ibr-locations.html.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend the Class D airspace and Class E surface area airspace at Waco Regional Airport, Waco, TX; establish Class E surface area airspace at TSTC Waco Airport, Waco, TX; establish Class E airspace extending upward from 700 feet above the surface at Marlin Airport, Waco, TX; and amend the Class E airspace extending upward from 700 feet above the surface at Waco Regional Airport, TSTC Waco Airport, and McGregor Executive Airport, Waco, to support instrument flight rule operations at this airport.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2021-0413/Airspace Docket No. 21-ASW-9.” The postcard will be date/time stamped and returned to the commenter.

All communications received before the specified closing date for comments will be considered before taking action on the proposed rule. The proposal contained in this notice may be changed in light of the comments received. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received, and any final disposition in person in the Dockets Office (see the ADDRESSES section for the address and phone number) between 9:00 a.m. and 5:00 p.m., Monday through Friday, except federal holidays. An informal docket may also be examined during normal business hours at the Federal Aviation Administration, Air Traffic Organization, Central Service Center, Operations Support Group, 10101 Hillwood Parkway, Fort Worth, TX 76177.

Availability and Summary of Documents for Incorporation by Reference

This document proposes to amend FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Proposal

The FAA is proposing an amendment to 14 CFR part 71 by:

Amending the Class D airspace to within a 4.2-mile (decreased from a 4.5-mile) radius of Waco Regional Airport, Waco, TX; adding an extension 1 mile each side of the 149° bearing from the airport extending from the 4.2-mile radius to 4.3 miles southeast of the airport; removing the city associated with the airport to comply with changes to FAA Order 7400.2M, Procedures for Handling Airspace Matters; and replacing the outdated term “Airport/Facility Directory” with “Chart Supplement”;

Amending the Class D airspace legal description at TSTC Waco Airport, Waco, TX, by removing the airport name from the airspace legal description header to comply with changes to FAA Order 7400.2M; removing the city associated with the airport in the airspace legal description to comply with changes to FAA Order 7400.2M; updating the name of the airport (previously TSTC-Waco Airport) to coincide with the FAA's aeronautical database; and replacing the outdated term “Airfield/Facility Directory” with “Chart Supplement”;

Amending the Class E surface area airspace to within a 4.2-mile (decreased from a 4.5-mile) radius of Waco Regional Airport; adding an extension 1 mile each side of the 149° bearing from the airport extending from the 4.2-mile radius to 4.3 miles southeast of the airport; removing the TSTI-Waco Airport, Waco, TX, and the associated airspace from the airspace legal description (A separate airspace legal description is being created to reduce confusion regarding Class D and E service availability at the two airports.); and replacing the outdated term “Airport/Facility Directory” with “Chart Supplement”;

Establishing Class E surface area airspace within a 4.4-mile radius of TSTC Waco Airport;

Establishing Class E airspace extending upward from 700 feet above the surface within a 6.3-mile radius of Marlin Airport, Waco, TX; and within 1.8 miles each side of the 123° radial from the Waco VORTAC extending from the 6.3-mile radius from Marlin Airport to 13.1 miles northwest of the airport;

And amending the Class E airspace extending upward from 700 feet above the surface to within a 6.7-mile (decreased from a 11.5-mile) radius of Waco Regional Airport; removing the extension north of the VORTAC as it is no longer needed; adding an extension 3.7 miles each side of the 014° bearing from the Waco RGNL: RWY 19-LOC extending from the 6.7-mile radius from Waco Regional Airport to 15.3 miles north of the Waco Regional Airport; adding an extension 2.5 miles each side of the 328° radial from the Waco VORTAC extending from the 6.7-mile radius from Waco Regional Airport to 10 miles northwest of the Waco VORTAC; within a 6.9-mile (decreased from a 7.9-mile) radius of TSTC Waco Airport; removing the Leroi NDB and the associated extension as they are no longer needed; adding an extension 1 mile each side of the 179° bearing from the McGregor Executive Airport, Waco, TX, extending from the 6.6-mile radius from McGregor Executive Airport to 6.7-miles south of McGregor Executive Airport; adding an extension 6 miles each side of the 005° radial from the Waco VORTAC extending from the Waco VORTAC to 10 miles north of the Waco VORTAC; and adding an extension 6 miles each side of the 185° radial from the Waco VORTAC extending from the 6.6 mile radius from the McGregor Executive Airport to the Waco VORTAC; removing the Marlin Airport and associated airspace from the airspace legal description as it no longer adjoins this airspace and separate airspace has been established for this airport; and updating the names of Waco Regional Airport (previously Regional Airport), TSTC Waco Airport (previously TSTC-Waco Airport) and McGregor Executive Airport (previously McGregor Municipal Airport) and the geographic coordinates of Waco Regional Airport and the Waco VORTAC to coincide with the FAA's aeronautical database.

These actions are the result of biennial airspace reviews.

Class D and E airspace designations are published in paragraph 5000, 6002, and 6005 of FAA Order 7400.11E, dated July 21, 2020, and effective September 15, 2020, which is incorporated by reference in 14 CFR 71.1. The Class D and E airspace designations listed in this document will be published subsequently in the Order.

FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 5000 Class D Airspace.

* * * * *

ASW TX D Waco, TX [Amended]

Waco Regional Airport, TX

(Lat. 31°36′44″ N, long. 97°13′49″ W)

That airspace extending upward from the surface to and including 3,000 feet MSL within a 4.2-mile radius of Waco Regional Airport, and within 1 mile each side of the 149° bearing from the airport extending from the 4.2-mile radius from the airport to 4.3 miles southeast of the airport. This Class D airspace area is effective during the specific dates in advance by a Notice to Airmen. The effective date and time will thereafter be published in the Chart Supplement.

ASW TX D Waco, TX [Amended]

TSTC Waco Airport, TX

(Lat. 31°38′16″ N, long. 97°04′27″ W)

That airspace extending upward from the surface to and including 3,000 feet MSL within a 4.4-mile radius of TSTC Waco Airport, excluding that airspace within the Waco Regional Airport Class D airspace and Class E surface area airspace. This Class D airspace area is effective during the specific dates and times established in advance by a Notice to Airmen. The effective date and time will thereafter be published in the Chart Supplement.

Paragraph 6002 Class E Airspace Areas Designated as Surface Areas.

* * * * *

ASW TX E2 Waco, TX [Amended]

Waco Regional Airport, TX

(Lat. 31°36′44″ N, long. 97°13′49″ W)

That airspace extending upward from the surface within a 4.2-mile radius of Waco Regional Airport, and within 1 mile each side of the 149° bearing from the airport extending from the 4.2-mile radius from the airport to 4.3 miles southeast of the airport. This Class E airspace area is effective during the specific dates in advance by a Notice to Airmen. The effective date and time will thereafter be published in the Chart Supplement.

ASW TX E2 Waco, TX [Established]

TSTC Waco Airport, TX

(Lat. 31°38′16″ N, long. 97°04′27″ W)

That airspace extending upward from the surface within a 4.4-mile radius of TSTC Waco Airport, excluding that airspace within the Waco Regional Airport Class D airspace and Class E surface area airspace. This Class E airspace area is effective during the specific dates and times established in advance by a Notice to Airmen. The effective date and time will thereafter be published in the Chart Supplement.

Paragraph 6005 Class E Airspace Areas Extending Upward From 700 Feet or More Above the Surface of the Earth.

* * * * *

ASW TX E5 Waco, TX [Established]

Marlin Airport, TX

(Lat. 31°20′26″ N, long. 96°51′07″ W)

That airspace extending upward from 700 feet above the surface within a 6.3-mile radius of Marlin Airport, and within 1.8 miles each side of the 123° radial of the Waco VORTAC extending from the 6.3-mile radius to 13.1 miles northwest of the airport.

ASW TX E5 Waco, TX [Amended]

Waco Regional Airport, TX

(Lat. 31°36′44″ N, long. 97°13′49″ W)

Waco RGNL: RWY 19-LOC

(Lat. 31°36′07″ N, long. 97°13′49″ W)

Waco VORTAC

(Lat. 31°39′44″ N, long. 97°16′08″ W)

TSTC Waco Airport, TX

(Lat. 31°38′16″ N, long. 97°04′27″ W)

McGregor Executive Airport, TX

(Lat. 31°29′06″ N, long. 97°19′00″ W)

That airspace extending upward from 700 feet above the surface within a 6.7-mile radius of Waco Regional Airport, and within 3.7 miles each side of the 014° bearing from the Waco RGNL: RWY 19-LOC extending from the 6.7-mile radius of Waco Regional Airport to 15.3 miles north of Waco Regional Airport, and within 2.5 miles each side of the 328° radial from the Waco VORTAC extending from the 6.7-mile radius of Waco Regional Airport to 10 miles northwest of the Waco VORTAC, and within a 6.9-mile radius of TSTC Waco Airport, and within a 6.6-mile radius of McGregor Executive Airport, and within 1 mile each side of the 179° bearing from the McGregor Executive Airport extending from the 6.6-mile radius of McGregor Executive Airport to 6.7 miles south of McGregor Executive Airport, and within 6 miles each side of the 005° radial from the Waco VORTAC extending from the Waco VORTAC to 10 miles north of the Waco VORTAC, and within 6 miles each side of the 185° radial from the Waco VORTAC extending from the 6.6-mile radius of McGregor Executive Airport to the Waco VORTAC.

Issued in Fort Worth, Texas, on May 24, 2021.
Martin A. Skinner,
Acting Manager, Operations Support Group, ATO Central Service Center.

[FR Doc. 2021-11233 Filed 5-27-21; 8:45 am]

BILLING CODE 4910-13-P